DEPARTMENT OF TRANSPORTATION

Federal Transit Administration

Competitive Funding Opportunity: Pilot Program for Transit-Oriented Development Planning

AGENCY: Federal Transit Administration (FTA), DOT.

ACTION: Notice of Funding Opportunity (NOFO).

SUMMARY: The Federal Transit Administration (FTA) announces the opportunity to apply for approximately $6.22 million of Fiscal Year (FY) 2020 funding under the Pilot Program for Transit-Oriented Development Planning (Catalog of Federal Domestic Assistance #20.500). FTA may award additional funds if they are made available to the program prior to the announcement of project selections. As required by Federal public transportation law and subject to funding availability, funds will be awarded competitively to support comprehensive planning associated with new fixed guideway and core capacity improvement projects.

DATES: Complete proposals must be submitted electronically through the GRANTS.GOV “APPLY” function by 11:59 p.m. EDT on October 26, 2020. Prospective applicants should initiate the process by registering on the GRANTS.GOV website promptly to ensure completion of the application process before the submission deadline. Instructions for applying can be found on FTA's website at https://www.transit.dot.gov/TODPilot and in the “FIND” module of GRANTS.GOV. The GRANTS.GOV funding opportunity ID is FTA-2020-014-TPE. Mail and fax submissions will not be accepted.

FOR FURTHER INFORMATION CONTACT: Dwayne Weeks, FTA Office of Planning and Environment, (202) 493-0316, or Dwayne.Weeks@dot.gov. A TDD is available at 1-800-877-8339 (TDD/FIRS).

SUPPLEMENTARY INFORMATION:

Table of Contents

A. Program Description

B. Federal Award Information

C. Eligibility Information

D. Application and Submission Information

E. Application Review Information

F. Federal Award Administration Information

G. Federal Awarding Agency Contacts

H. Technical Assistance and Other Program Information

A. Program Description

Section 20005(b) of the Moving Ahead for Progress in the 21st Century Act (MAP-21; Pub. L. 112-141, July 6, 2012), with funding authorized by 49 U.S.C. 5338(a)(2)(B), authorizes FTA to award funds under the Pilot Program for Transit-Oriented Development (TOD) Planning (TOD Pilot Program). The TOD Pilot Program grants are competitively awarded to local communities to integrate land use and transportation planning with a new fixed guideway or core capacity improvement transit capital project as defined in Federal public transportation law (49 U.S.C. 5309(a)). (See section C of this NOFO for more information about eligibility.)

The TOD Pilot Program is intended to fund comprehensive planning that supports economic development, ridership, multimodal connectivity and accessibility, increased transit access for pedestrian and bicycle traffic, and mixed-use development near transit stations. The TOD Pilot Program also encourages identification of infrastructure needs and engagement with the private sector.

FTA is seeking comprehensive planning projects covering an entire transit capital project corridor, rather than proposals that involve planning for individual station areas or only a small section of the corridor. To ensure that any proposed planning work both reflects the needs and aspirations of the local community, and also results in concrete, specific deliverables and outcomes, transit project sponsors must partner with entities with land use planning authority in the transit project corridor to conduct the planning work.

B. Federal Award Information

Federal public transportation law (49 U.S.C. 5338(a)(2)(B)) authorizes FTA to make grants for eligible comprehensive planning projects under Section 20005(b) of MAP-21. FTA intends to award all available funding ($6.22 million) to selected applicants responding to this NOFO. Due to funding limitations, applicants that are selected for funding may receive less than the amount originally requested.

Only proposals from eligible recipients for eligible activities will be considered for funding. FTA anticipates minimum grant awards of $250,000 and maximum grant awards of $2,000,000.

C. Eligibility Information

1. Eligible Applicants

Applicants under the TOD Pilot Program must be State or local governmental authorities and FTA grant recipients (i.e., existing direct and designated recipients) as of the publication date of this NOFO. An applicant must be the project sponsor of an eligible transit capital project as defined below in section C, subsection 3 or an entity with land use planning authority in the project corridor of an eligible transit capital project. Except in cases where an applicant is both the sponsor of an eligible transit project and has land use authority in at least a portion of the transit project corridor, the transit project sponsor and at least one entity in the project corridor with land use planning authority must partner on the proposed comprehensive planning project. Documentation of this partnership must be included with the application; see section D, subsection 2 of this NOFO for further information.

Only one application per transit capital project corridor may be submitted to FTA. Multiple applications submitted for a single transit capital project corridor indicate that partnerships are not in place and FTA will reject all of the applications.

2. Cost Sharing or Matching

The maximum Federal funding share is 80 percent.

Eligible sources of local match include the following: Cash from non-Government sources (other than revenues from providing public transportation services); revenues derived from the sale of advertising and concessions; amounts received under a service agreement with a State or local social service agency or private social service organization; revenues generated from value capture financing mechanisms; funds from an undistributed cash surplus; replacement or depreciation cash fund or reserve; or new capital. In-kind contributions are permitted. Transportation Development Credits (formerly referred to as Toll Revenue Credits) may not be used to satisfy the local match requirement. FTA may prioritize projects proposed with a higher non-Federal share.

3. Other Eligibility Criteria

i. Eligible Transit Projects

Any comprehensive planning work proposed for funding under the TOD Pilot Program must be associated with an eligible transit capital project. Although not required to be part of the Capital Investment Grant program, to be eligible, the proposed transit capital project must be a new fixed guideway project or a core capacity improvement project as defined by Federal public transportation law (49 U.S.C. 5309(a)).

A fixed guideway is a public transportation facility:

(A) Using and occupying a separate right-of-way for the exclusive use of public transportation;

(B) using rail;

(C) using a fixed catenary system;

(D) for a passenger ferry system; or

(E) for a bus rapid transit system.

A new fixed guideway capital project is defined in statute to be:

(A) A new fixed guideway project that is a minimum operable segment or extension to an existing fixed guideway system; or

(B) a fixed guideway bus rapid transit project that is a minimum operable segment or an extension to an existing bus rapid transit system.

A fixed guideway bus rapid transit project is defined more specifically in statute as a bus capital project:

(A) In which the majority of the project operates in a separated right-of-way dedicated for public transportation use during peak periods;

(B) that represents a substantial investment in a single route in a defined corridor or subarea; and

(C) that includes features that emulate the services provided by rail fixed guideway public transportation systems, including:

(i) Defined stations;

(ii) traffic signal priority for public transportation vehicles;

(iii) short headway bidirectional services for a substantial part of weekdays and weekend days; and

(iv) any other features the Secretary may determine are necessary to produce high-quality public transportation services that emulate the services provided by rail fixed guideway public transportation systems.

A core capacity improvement project is defined in statute as a substantial corridor-based capital investment in an existing fixed guideway system that increases the capacity of the corridor by not less than 10 percent. The term does not include project elements designed to maintain a state of good repair of the existing fixed guideway system.

Comprehensive planning work in a corridor for a transit capital project that does not meet the statutory definition above of either a new fixed guideway project or a core capacity improvement project is not eligible under the TOD Pilot Program.

ii. Eligible Activities

Any comprehensive planning efforts funded under the TOD Pilot Program must address all six aspects of the general authority stipulated in Section 20005(b)(2) of MAP-21:

i. Enhances economic development, ridership, and other goals established during the project development and engineering processes;

ii. facilitates multimodal connectivity and accessibility;

iii. increases access to transit hubs for pedestrian and bicycle traffic;

iv. enables mixed-use development;

v. identifies infrastructure needs associated with the eligible project; and

vi. includes private sector participation.

MAP-21 also requires the comprehensive planning effort to advance the metropolitan planning organization's metropolitan transportation plan. Further, MAP-21 requires applicants to establish performance criteria for the comprehensive planning effort.

Following are examples of the types of substantial deliverables that may result from the comprehensive planning work. Substantial deliverables are reports, plans and other materials that represent the key accomplishments of the comprehensive planning effort and that must be submitted to FTA as each is completed. Substantial deliverables may include, but are not restricted to, the following:

i. A comprehensive plan report that includes corridor development policies and station development plans, a proposed timeline, and recommended financing strategies for these plans;

ii. A strategic plan report that includes corridor specific planning strategies and program recommendations to support comprehensive planning;

iii. Revised TOD-focused zoning codes and/or resolutions;

iv. A report evaluating and recommending financial tools to encourage TOD implementation such as land banking, value capture, and development financing;

v. Policies to encourage TOD, including actions that reduce regulatory barriers that unnecessarily raise the costs of housing development or impede the development of affordable housing; and/or

vi. Local or regional resolutions to implement TOD plans and/or establish TOD funding mechanisms.

iii. Ineligible Activities

Applications should not include the following activities:

i. TOD planning work only in a single transit capital project station area;

ii. Transit project development activities that would be reimbursable under an FTA capital grant, such as project planning, the design and engineering of stations and other facilities, environmental analyses needed for the transit capital project, or costs associated with specific joint development activities;

iii. Capital projects, such as land acquisition, construction, and utility relocation; and

iv. Site- or parcel-specific planning, such as the design of individual structures.

D. Application and Submission Information

1. Address To Request Application Package

Applications must be submitted electronically through GRANTS.GOV. General information for submitting applications through GRANTS.GOV can be found at https://www.transit.dot.gov/funding/grants/applying/applying-fta-funding along with specific instructions for the forms and attachments required for submission. Mail and fax submissions will not be accepted.

2. Content and Form of Application Submission

Proposals must include a completed SF 424 Mandatory form (downloaded from GRANTS.GOV) and the following attachments to the completed SF 424:

i. A completed Applicant and Proposal Profile supplemental form for the TOD Pilot Program (supplemental form) found on the FTA website at https://www.transit.dot.gov/TODPilot. The information on the supplemental form will be used to determine applicant and project eligibility for the program, and to evaluate the proposal against the selection criteria described in part E of this notice;

ii. A map of the proposed study area showing the transit project alignment and stations, major roadways, major landmarks, and the geographic boundaries of the proposed comprehensive planning activities;

iii. Documentation of a partnership between the transit project sponsor and an entity in the project corridor with land use planning authority to conduct the comprehensive planning work, if the applicant does not have both of these responsibilities. Documentation may consist of a memorandum of agreement or letter of intent signed by all parties that describes the parties' roles and responsibilities in the proposed comprehensive planning project; and

iv. Documentation of any funding commitments for the proposed comprehensive planning work.

Information such as the applicant's name, Federal amount requested, local match amount, description of the study area, are requested in varying degrees of detail on both the SF 424 form and supplemental form. Applicants must fill in all fields unless stated otherwise on the forms. Applicants should use both the “Check Package for Errors” and the “Validate Form” buttons on both forms to check all required fields, and ensure that the Federal and local amounts specified are consistent. In the event of errors with the supplemental form, FTA recommends saving the form on your computer and ensuring that JavaScript is enabled in your PDF reader. The information listed below MUST be included on the SF 424 and supplemental forms for TOD Pilot Program funding applications.

The SF 424 and supplemental form will prompt applicants to address the following items:

1. Provide the name of the lead applicant and, if applicable, the specific co-sponsors submitting the application.

2. Provide the applicant's Dun and Bradstreet Data Universal Numbering System (DUNS) number.

3. Provide contact information including: Contact name, title, address, phone number, and email address.

4. Specify the Congressional district(s) where the planning project will take place.

5. Identify whether the planning project is located in a qualified opportunity zone designated pursuant to 26 U.S.C. 1400Z-1.

6. Identify the project title and project scope to be funded, including anticipated substantial deliverables and the milestones at when they will be provided to FTA.

7. Identify and describe an eligible transit project that meets the requirements of section C, subsection 3 of this notice.

8. Provide evidence of a partnership between the transit project sponsor and at least one agency with land use authority in the transit capital project corridor, as described earlier in this subsection.

9. Address the six aspects of general authority under MAP-21 Section 20005(b)(2).

10. Address each evaluation criterion separately, demonstrating how the project responds to each criterion as described in section E.

11. Provide a line-item budget for the total planning effort, with enough detail to indicate the various key components of the comprehensive planning project.

12. Identify the Federal amount requested.

13. Document the matching funds, including amount and source of the match (may include local or private sector financial participation in the project). Describe whether the matching funds are committed or planned, and include documentation of the commitments.

14. Address whether other Federal funds have been sought or received for the comprehensive planning project.

15. Provide a schedule and process for the development of the comprehensive plan that includes anticipated dates for incorporating the planning work effort into the region's unified planning work program, completing major tasks and substantial deliverables, and completing the overall planning effort.

16. Describe how the comprehensive planning work advances the metropolitan transportation plan of the metropolitan planning organization.

17. Propose performance criteria for the development and implementation of the comprehensive planning work.

18. Identify potential State, local or other impediments to the products of the comprehensive planning work and its implementation, and how the work will address them.

FTA will not consider any additional materials submitted by applicants in its evaluation of proposals. The total length of the completed supplemental form and documentation of partnerships and funding commitments should be no more than 15 pages.

3. Unique Entity Identifier and System for Award Management (SAM)

Each applicant is required to: (1) Register in SAM before submitting an application; (2) provide a valid unique entity identifier; and (3) continue to maintain an active SAM registration with current information at all times during which the applicant has an active Federal award or an application or plan under consideration by FTA. These requirements do not apply if the applicant: (1) Is an individual; (2) is excepted from the requirements under 2 CFR 25.110(b) or (c); or (3) has an exception approved by FTA under 2 CFR 25.110(d). FTA may not make an award until the applicant has complied with all applicable unique entity identifier and SAM requirements. If an applicant has not fully complied with the requirements by the time FTA is ready to make an award, FTA may determine that the applicant is not qualified to receive an award and use that determination as a basis for making a Federal award to another applicant. Registration in SAM may take as little as 3-5 business days, but since there could be unexpected steps or delays, FTA recommends allowing ample time, up to several weeks, for completion of all steps. For additional information on obtaining a unique entity identifier, please visit www.sam.gov.

4. Submission Dates and Times

Project proposals must be submitted electronically through http://www.GRANTS.GOV by 11:59 p.m. EDT on October 26, 2020. GRANTS.GOV attaches a time stamp to each application at the time of submission. Proposals submitted after the deadline will not be considered under any circumstances. Mail and fax submissions will not be accepted.

Within 48 hours after submitting an electronic application, the applicant should receive two email messages from GRANTS.GOV: (1) Confirmation of successful transmission to GRANTS.GOV; and (2) confirmation of successful validation by GRANTS.GOV. FTA will then validate the application and will attempt to notify any applicants whose applications could not be validated. If the applicant does not receive confirmation of successful validation or a notice of failed validation or incomplete materials, the applicant must address the reason for the failed validation, as described in the email notice, and resubmit before the submission deadline. If making a resubmission for any reason, include all original attachments regardless of which attachments were updated and check the box on the supplemental form indicating this is a resubmission. An application that is submitted at the deadline and cannot be validated will be marked as incomplete, and such applicants will not receive additional time to re-submit.

Any addenda that FTA releases on the application process will be posted at https://www.transit.dot.gov/TODPilot. Important: FTA urges applicants to submit their applications at least 96 hours prior to the due date to allow time to receive the validation messages and to correct any problems that may have caused a rejection notification. GRANTS.GOV scheduled maintenance and outage times are announced on the GRANTS.GOV website at http://www.GRANTS.GOV. Deadlines will not be extended due to scheduled maintenance or outages.

Applicants are encouraged to begin the registration process on the GRANTS.GOV site well in advance of the submission deadline. Registration is a multi-step process, which may take several weeks to complete before an application can be submitted. Registered applicants may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in Appendix A.

5. Funding Restrictions

See section C of this NOFO for detailed eligibility requirements. FTA emphasizes that any comprehensive planning projects funded through the TOD Pilot Program must be associated with an eligible transit project, specifically a new fixed guideway project or a core capacity improvement project as defined in Federal transit statute, 49 U.S.C. 5309(a). Projects are not required to be within the Capital Investment Grant Program.

E. Application Review Information

1. Criteria

FTA will evaluate proposals that include all components identified in section D of this notice according to the following three criteria:

a. Demonstrated Need

FTA will evaluate each project to determine the need for funding based on the following factors:

i. Potential state, local or other impediments to implementation of the products of the comprehensive planning effort, and how the workplan will address them;

ii. How the proposed work will advance TOD implementation in the corridor and region;

iii. Justification as to why Federal funds are needed for the proposed work; and

iv. Extent to which the transit project corridor could benefit from TOD planning.

b. Strength of the Work Plan, Schedule and Process

FTA will evaluate the strength of the work plan, schedule and process included in an application based on the following factors:

i. Extent to which the schedule contains sufficient detail, identifies all steps needed to implement the work proposed, and is achievable;

ii. The proportion of the project corridor covered by the work plan;

iii. Extent of partnerships, including with non-public sector entities;

iv. The partnerships' technical capability to develop, adopt and implement the comprehensive plans, based on FTA's assessment of the applicant's description of the policy formation, implementation, and financial roles of the partners, and the roles and responsibilities of proposed staff; and

v. Whether the performance measures identified in the application relate to the goals of the comprehensive planning work.

c. Funding Commitments

FTA will assess the status of local matching funds for the planning work. Applications demonstrating that matching funds for the proposed comprehensive planning work are committed will receive higher ratings from FTA on this factor. Proposed comprehensive planning projects for which matching funding sources have been identified, but are not yet committed, will be given lower ratings under this factor by FTA, as will proposed comprehensive planning projects for which in-kind contributions constitute the primary or sole source of matching funds.

2. Review and Selection Process

In addition to other FTA staff that may review the proposals, a technical evaluation committee will evaluate proposals based on the published evaluation criteria. Members of the technical evaluation committee and other FTA staff may request additional information from applicants, if necessary. Based on the findings of the technical evaluation committee, the FTA Administrator will determine the final selection of projects for program funding. Among the factors, in determining the allocation of program funds FTA may consider geographic diversity, diversity in the size of the grantees receiving funding, projects located in or that support public transportation service in a qualified opportunity zone designated pursuant to 26 U.S.C. 1400Z-1, or the applicant's receipt of other competitive awards. FTA may prioritize projects proposed with a higher local share.

Addressing the deteriorating conditions and disproportionately high fatality rates on our rural transportation infrastructure is of critical interest to the Department, as rural transportation networks face unique challenges in safety, infrastructure condition, and passenger and freight usage. Consistent with the DOT's new Rural Opportunities to Use Transportation for Economic Success (R.O.U.T.E.S.) initiative, the Department will consider how the applicant will address the challenges faced by rural areas. FTA will also evaluate the potential for the project to accelerate the introduction of innovative technologies or practices such as integrated fare payment systems permitting complete trips or advancements to propulsion systems. Innovation can also include practices such as new public transportation operational models, financial or procurement arrangements, or value capture.

In addition to the criteria and considerations outlined in this section, the FTA Administrator will take into account the following key Departmental objectives:

(A) Supporting economic vitality at the national and regional level;

(B) Leveraging Federal funding to attract other, non-Federal sources of infrastructure investment, including value capture;

(C) Using innovative approaches to improve safety and expedite project delivery;

(D) Encourage State and local and tribal governments to reduce regulatory barriers that unnecessarily raise the costs of housing development or impede the development of affordable housing; and

(E) Holding grant recipients accountable for their performance and achieving specific, measurable outcomes identified by grant applicants.

Prior to making an award, FTA is required to review and consider any information about the applicant that is in the Federal Awardee Performance and Integrity Information Systems (FAPIIS) accessible through SAM. An applicant may review and comment on information about itself that a Federal awarding agency previously entered. FTA will consider any comments by the applicant, in addition to the other information in FAPIIS, in making a judgment about the applicant's integrity, business ethics, and record of performance under Federal awards when completing the review of risk posed by applicants as described in the 2 CFR 200.205 Federal awarding agency review of risk posed by applicants.

F. Federal Award Administration Information

1. Federal Award Notices

The FTA Administrator will announce the final project selections on the FTA website. Project recipients should contact their FTA Regional Offices for additional information regarding allocations for projects under the TOD Pilot Program. FTA will issue specific guidance to recipients regarding pre-award authority at the time of selection; see subsection 3 below for further information.

2. Administrative and National Policy Requirements

i. Pre-Award Authority.

FTA will issue specific guidance to recipients regarding pre-award authority at the time of selection. FTA does not provide pre-award authority for competitive funds until projects are selected and even then, there are Federal requirements that must be met before costs are incurred. Funds under this NOFO cannot be used to reimburse applicants for otherwise eligible expenses incurred prior to FTA award of a Grant Agreement until FTA has issued pre-award authority for selected projects, or unless FTA has issued a “Letter of No Prejudice” for the project before the expenses are incurred. For more information about FTA's policy on pre-award authority, please see the FY 2020 Apportionment Notice published on June 3, 2020. https://www.govinfo.gov/content/pkg/FR-2020-06-03/pdf/2020-11946.pdf.

ii. In connection with any program or activity conducted with or benefiting from funds awarded under this notice, recipients of funds must comply with all applicable requirements of Federal law, including, without limitation, the Constitution of the United States; statutory, regulatory, and public policy requirements, including without limitation, those protecting free speech, religious liberty, public welfare, the environment, and prohibiting discrimination; the conditions of performance, non-discrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If the Department determines that a recipient has failed to comply with applicable Federal requirements, the Department may terminate the award of funds and disallow previously incurred costs, requiring the recipient to reimburse any expended award funds.

iii. Grant Requirements.

If selected, awardees will apply for a grant through FTA's Transit Award Management System (TrAMS). Recipients of TOD Pilot Program funds are subject to the grant requirements of the Section 5303 Metropolitan Planning program, including those of FTA Circular 8100.1C and Circular 5010.1E. All competitive grants, regardless of award amount, will be subject to the Congressional Notification and release process. Technical assistance regarding these requirements is available from each FTA regional office.

iv. Planning.

FTA encourages applicants to notify the appropriate metropolitan planning organizations in areas likely to be served by the funds made available under this program. Selected projects must be incorporated into the unified planning work programs of metropolitan areas before they are eligible for FTA funding or pre-award authority.

v. Standard Assurances.

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Reporting

Post-award reporting requirements include submission of Federal Financial Reports and Milestone Progress Reports in FTA's electronic grants management system on a quarterly basis. Awardees must also submit copies of the substantial deliverables identified in the work plan to the FTA regional office at the corresponding milestones.

G. Federal Awarding Agency Contacts

For program-specific questions, please contact Dwayne Weeks, Office of Planning and Environment, (202) 493-0316, email: Dwayne.Weeks@dot.gov. A TDD is available at 1-800-877-8339 (TDD/FIRS). Any addenda that FTA releases on the application process will be posted at https://www.transit.dot.gov/TODPilot. To ensure applicants receive accurate information about eligibility or the program, the applicant is encouraged to contact FTA directly, rather than through intermediaries or third parties. FTA staff may also conduct briefings on the FY 2020 competitive grants selection and award process upon request. Contact information for FTA's regional offices can be found on FTA's website at www.transit.dot.gov.

For issues with GRANTS.GOV please contact GRANTS.GOV by phone at 1-800-518-4726 or by email at support@grants.gov.

H. Technical Assistance and Other Program Information

This program is not subject to Executive Order 12372, “Intergovernmental Review of Federal Programs.”

K. Jane Williams,
Deputy Administrator.

[FR Doc. 2020-21473 Filed 9-28-20; 8:45 am]

BILLING CODE 4910-57-P